DEPARTMENT OF THE INTERIOR

National Park Service

National Register of Historic Places; Notification of Pending Nominations and Related Actions

Nominations for the following properties being considered for listing or related actions in the National Register were received by the National Park Service before February 2, 2008. Pursuant to § 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by March 5, 2008.

J. Paul Loether,
Chief, National Register of Historic Places/National Historic Landmarks Program.

Florida

Putnam County

Larimer Memorial Library, 216 Reid St., Palatka, 08000163

Sarasota County

Laurel Park Historic District, Bounded by Morrill St.,Orange Ave.,Brother Geenen Wy.,Julia Pl.,& Lafayette Ct., Sarasota, 08000164

Guam

Guam County

Canada Water Wells, Near jct. of Canada-Toto Rd.& Canada -Toto Loop, Barrigada-Mangilao, 08000165

Massachusetts

Middlesex County

Washington Park Historic District, (Newton MRA) 4-97 Washington Park & 5,15 Park Place, Newton, 08000166

Westford Town Farm, 35 Town Farm Rd., Westford, 08000167

Worcester County

Pine Grove Cemetery, Tremaine & Main Sts., Leominster, 08000168

Nebraska

Chase County

Wauneta Roller Mills, 112 S. Arapahoe, Wauneta, 08000169

Custer County

St. Anselm's Catholic Church, Rectory and Parish Hall, NE 2, Anselmo, 08000170

Douglas County

Moyer Row Houses, 2612-2614 7 2616-2618 Dewey, Omaha, 08000171

Undine Apartments, 2620-2626 Dewey Ave., Omaha, 08000172

Lancaster County

Nebraska Governor's Mansion, 1425 H St., Lincoln, 08000173

New Jersey

Atlantic County

Belcoville Post Office, 1201 Madden Ave. (Weymouth Township), Belcoville, 08000174

Bergen County

Darlington Schoolhouse, 600 Ramapo Valley Rd. (Mahwah Township), Darlington, 08000175

Cape May County

Cape May Point Jail, 720 U.S. 9 (Lower Township), Cold Spring, 08000176

Octagonal Poultry House, 720 U.S. 9 (Lower Township), Cold Spring, 08000177

Mercer County

Maddock's, Thomas, Sons Company, 240 Princeton Ave. (Hamilton Township), East Trenton Heights, 08000178

Monmouth County

North Shrewsbury Ice Boat and Yacht Club, 9 Union St., Red Bank, 08000179

Somerset County

Plukemin Continental Artillery Cantonment Site, 4000 ft. NE. of jct. U.S. 202-206 & Washington Valley Rd. (Bedminster Township), Washington Camp Ground, 08000180

Van Der Veer—Harris House, 344 U.S. 206 (Hillsborough Township), Woods Tavern, 08000181

Oregon

Baker County

Churchill School, 3451 Broadway, Baker City, 08000182

Lane County

Eugene Civic Stadium, 2077 Willamette St., Eugene, 08000183

South Carolina

Cherokee County

Kings Mountain State Park Historic District, (South Carolina State Parks MPS) 1277 Park Rd., Blacksburg, 08000185

Wisconsin

Rock County

Jones, John H., House, 538 S. Main St., Janesville, 08000186

Strunk, John and Eleanor, House, 2306 N. Parker Dr., Janesville, 08000184

[FR Doc. E8-2966 Filed 2-15-08; 8:45 am]

BILLING CODE 4312-51-P